SECURITIES AND EXCHANGE COMMISSION

[File No. 500-1]

Allixon International Corp.; Order of Suspension of Trading

November 17, 2005.

It appears to the Securities and Exchange Commission that the public interest and the protection of investors require a suspension of trading in the securities of Allixon International Corp. (“AXCP”). The Commission is concerned that AXCP and/or certain of its shareholders may have unjustifiably relied on Rule 504 of Regulation D and/or provisions of Regulation S of the Securities Act of 1933 (“Securities Act”) in conducting an unlawful distribution of AXCP securities that failed to comply with the resale restrictions of Rule 144 and/or Regulation S of the Securities Act. AXCP, a company that has made no public filings with the Commission or the NASD, is quoted on the Pink Sheets, under the symbol AXCP, and has been the subject of spam e-mail touting the company's shares.

The Commission is of the opinion that the public interest and the protection of investors require a suspension of trading in the securities of the above listed company. Therefore, it is ordered, pursuant to Section 12(k) of the Securities Exchange Act of 1934, that trading in the above listed company is suspended for the period from 9:30 a.m. e.s.t. November 17, 2005 through 11:59 p.m. e.s.t., on December 1, 2005.

By the Commission.
Jonathan G. Katz,
Secretary.

[FR Doc. 05-23079 Filed 11-17-05; 12:25 pm]

BILLING CODE 8010-01-P